DEPARTMENT OF THE INTERIOR

Bureau of Land Management

Notice of Availability of the Final Programmatic Environmental Impact Statement for the Designation of Energy Corridors on Federal Land in the 11 Western States, Including Proposed Amendments to Selected Land Use Plans LLW0350000.L14300000.PN0000

AGENCY: Bureau of Land Management, Interior.

ACTION: Notice of availability.

SUMMARY: The Bureau of Land Management (BLM) and the Department of Energy (DOE) as co-lead agencies, and the U.S. Forest Service (FS) of the Department of Agriculture (USDA), the Department of Defense (DOD), and the U.S. Fish and Wildlife Service (USFWS) of the Department of the Interior (DOI) as cooperating Federal Agencies (the Agencies) announce the availability of the Final Programmatic Environmental Impact Statement for the Designation of Energy Corridors on Federal Land in the 11 Western States (Final PEIS) (DOE/EIS-0386) that also proposes to amend 138 land use plans.

The Coeur d'Alene Tribe, the California Energy Commission (CEC), the California Public Utilities Commission (CPUC), the State of Wyoming, and the Lincoln, Sweetwater, and Uinta counties and conservation districts in Wyoming are also cooperating agencies. The Department of Commerce (DOC) and the Federal Energy Regulatory Commission (FERC) are consulting agencies.

The Agencies prepared the Final PEIS pursuant to the National Environmental Policy Act of 1969 (NEPA), as amended, 42 U.S.C. 4321 et seq.; the Council on Environmental Quality NEPA regulations, 40 CFR Parts 1500-1508; the DOE NEPA regulations, 10 CFR Part 1021; Compliance with Floodplain and Wetland Environmental Review Requirements, 10 CFR Part 1022; the BLM planning regulations, 43 CFR subpart 1610; and applicable FS planning regulations.

Section 368 of the Energy Policy Act of 2005 (EPAct 2005), Public Law 109-58, directs the Secretaries of Agriculture, Commerce, Defense, Energy, and the Interior, in consultation with FERC, states, tribal or local units of governments, as appropriate; affected utility industries; and other interested persons to designate, under their respective authorities, corridors on Federal land in the 11 Western States for oil, gas, and hydrogen pipelines as well as electricity transmission and distribution facilities; perform any environmental reviews that may be required to complete the designation of such corridors; and incorporate the designated corridors into relevant agency land use and resource management plans or equivalent plans.

The 11 Western States are Arizona, California, Colorado, Idaho, Montana, Nevada, New Mexico, Oregon, Utah, Washington, and Wyoming.

DATES: Copies of the Final PEIS were distributed beginning November 20, 2008 to Members of Congress, American Indian Tribal governments, state and local governments, other Federal agencies, and organizations and individuals who are known to have an interest in the Final PEIS.

The DOI, USDA and DOD would issue separate Records of Decision (ROD) to amend selected land use plans for the purpose of designating EPAct 2005 Section 368 corridors no sooner than 30 days after the Environmental Protection Agency publishes the Notice of Availability of the Final PEIS. BLM's ROD must also await a 60-day Governors' Consistency Review in accordance with 43 CFR 1610.3-2.

ADDRESSES: Send written requests for compact discs (CD) or printed copies of the Final PEIS to: West-wide Energy Corridor Final PEIS, Argonne National Laboratory, 9700 S. Cass Avenue, Bldg. 900, Mailstop 4, Argonne, IL 60439; by toll-free fax: 1-866-542-5904; or order online at http://corridoreis.anl.gov.

The Final PEIS consists of a stand alone Summary, the PEIS Chapters (Volume 1-648 pages), the Appendices (Volume 2-564 pages), Maps (Volume 3-148 pages), and Comments and Responses (Volume 4-174 pages). The Final PEIS Volume 3 map atlas is printed on 11x17-inch paper. The CD version of the Final PEIS includes the map atlas in PDF format. The most powerful and flexible version of the map data is available on the project Web site (http://corridoreis.anl.gov). The Web site maps are available within a geographic information system (GIS) database that allows users to merge, enlarge, and view multiple map-data layers. Software and instructions to use the GIS data are user-friendly and available for free download on the Web site. The Final PEIS is available on the project Web site at http://corridoreis.anl.gov, on the DOE NEPA Web site at http://www.gc.energy.gov/nepa, and at the following reading room locations:

• The BLM state and field offices and FS regional offices in the 11 Western States, and

• The DOE Freedom of Information Act Office and Reading Room, Room 1E-190, 1000 Independence Ave., SW., Washington, DC 20585; phone 202-586-3142.

FOR FURTHER INFORMATION CONTACT: For information on the Final PEIS, please contact Kate Winthrop, BLM, WO-350, MS 1000 LS, 1849 C Street, NW., Washington, DC 20240; by phone: 202-452-5051; or by e-mail: kate_winthrop@blm.gov.

SUPPLEMENTARY INFORMATION: The Agencies prepared the Final PEIS to implement Section 368 of EPAct to designate preferred locations for future oil, gas, and hydrogen pipelines as well as electricity transmission and distribution facilities and to incorporate the designated corridors into the relevant agencies' land use and resource management plans or equivalent plans. Section 368 directs the Agencies to take into account the need for upgraded and new infrastructure and to take actions to improve reliability, relieve congestion, and enhance the capability of the national grid to deliver energy. This action only pertains to the designation of corridors for potential facilities on Federal lands located within the 11 Western States.

In addition, Section 368 is intended to improve coordination among the Agencies to increase the efficiency of using designated corridors. In many areas of the United States, including the West, the infrastructure required to deliver energy has not always kept pace with growth in energy demand. The Agencies hope to improve the delivery of energy, while enhancing the electric transmission grid for the future, by establishing a coordinated network of Federal energy corridors on Federal lands in the West. The Final PEIS analyzes the environmental impacts of designating Federal energy corridors in 11 Western States and incorporating those designations into relevant agency land use and resource management plans or equivalent plans.

The Agencies are preparing this PEIS at the designation stage because they believe it is an appropriate time to examine environmental concerns at the programmatic level. Impacts that affect the quality of the environment will only occur after specific proposals are submitted, analyzed through the NEPA process, and approved by the land management agency. The Agencies expect that the PEIS will greatly assist subsequent site-specific analyses for individual project proposals by allowing the Agencies to incorporate this PEIS into those later analyses.

The Final PEIS analyzes a No Action Alternative and a Proposed Action. Under the No Action Alternative, Federal energy corridors would not be designated on Federal lands in the 11 Western States. The siting and development of future energy transport projects would continue under current agency procedures for granting rights-of-way (ROW). Under the Proposed Action, the Agencies would designate and incorporate identified Federal energy corridors that would consist of existing, locally designated Federal energy corridors together with additional, newly designated energy corridors located on Federal land into relevant land use and resource management plans. The Proposed Action is the Agencies' preferred alternative.

These energy corridors would comprise a comprehensive, coordinated network of preferred locations for future energy projects that could be developed to satisfy demand for energy. Under the Proposed Action, approximately 6,120 miles of Federal energy corridors would be designated on Federal lands within the 11 Western States as the preferred location for oil, natural gas, and hydrogen pipelines as well as electricity transmission and distribution lines. Environmental, engineering, and land use screening criteria were applied during the development of the Proposed Action to reduce potential environmental and land use conflicts. The energy corridors would typically be 3,500 feet wide, although the width may vary in certain areas due to environmental, topographic, or management constraints. The DOI, USDA and DOD would amend their respective land use or equivalent plans to incorporate the designated energy corridors; the amendments would be effective upon signing of the relevant agency's ROD.

The policies and Interagency Operating Procedures (IOPs) developed under the Proposed Action would establish minimum requirements for the management of future individual energy transport projects. The proposed policies identify management objectives and address the administration of energy transport development activities. The proposed IOPs identify required management procedures that would need to be incorporated into future project-specific energy transport development proposals. The Proposed Action would amend a total of 138 (93 BLM, 38 FS, 4 DOD, and 3 NPS) land use and equivalent plans in the 11 Western States. The proposed land use plan amendments would incorporate the programmatic energy transport development policies and IOPs set forth in the Final PEIS. The proposed land use plan amendments would facilitate preparation and consideration of future energy transport development ROW applications on DOI-, USDA-, and DOD-administered lands in these states, but would not eliminate the need for site-specific NEPA analysis of individual development proposals.

The Agencies propose to amend the following land use management plans, itemized in appendix A of the Final PEIS:

Land Use or Equivalent Plans Proposed for Amendment to Incorporate Epact Section 368 Energy Corridors on Federal Lands in the 11 Western States
| State land use plan | Agency office(s)
Arizona | Apache-Sitgreaves NS LRMP | FS, Apache-Sitgreaves NF
| Arizona Strip RMP | BLM, Arizona Strip FO
| Coronado NF LRMP | FS, Coronado NF
| Glen Canyon NRA GMP | NPS, Glen Canyon NRA
| Kaibab NF LRMP | FS, Kaibab NF
| Kingman RMP | BLM, Kingman FO
| Lake Havasu RMP | BLM, Lake Havasu FO
| Lower Gila North MFP | BLM, Hassayampa FO
| Lower Gila South RMP | BLM, Hassayampa FO
| Lower Sonoran RMP | BLM, Lower Sonoran FO
| Phoenix RMP | BLM, Hassayampa FO
| Prescott NF LRMP | FS, Prescott NF
| Safford RMP | BLM, Safford FO
| Tonto NF LRMP | FS, Tonto NF
| Yuma Proving Ground INRMP | DOD, U.S. Army, Yuma Proving Ground
| Yuma RMP | BLM, Yuma FO
California | Alturas RMP | BLM, Alturas FO
| Angeles NF LRMP | FS, Angeles NF
| Bishop RMP | BLM, Bishop FO
| California Desert Conservation Area Plan | BLM, Barstow FO, El Centro FO, Lake Havasu FO, Needles FO, Ridgecrest FO, Palm Springs-South Coast FO
| China Lake Naval Air Weapons Station INRMP | DOD, U.S. Navy, China Lake Naval Air Weapons Station
| Cleveland NF LRMP | FS, Cleveland NF
| Eagle Lake RMP | BLM, Eagle Lake FO
| Inyo NF LRMP | FS, Inyo NF
| Klamath NF LRMP | FS, Klamath NF
| Lassen NF LRMP | FS, Lassen NF
| Modoc NF LRMP | FS, Modoc NF
| Redding RMP | BLM, Redding FO
| San Bernadino NF LRMP | FS, San Bernadino NF
| Shasta-Trinity NF LRMP | FS, Shasta-Trinity NF
| Sierra RMP | BLM, Folsom FO
| Six Rivers NF LRMP | FS, Six Rivers NF
| South Coast RMP | BLM, Palm Springs-South Coast FO
| Surprise RMP | BLM, Surprise FO
| Tahoe NF LRMP | FS, Tahoe NF
| Toiyabe NF LRMP | FS,Toiyabe NF
Colorado | Arapaho-Roosevelt NF and Pawnee NG LRMP | FS, Arapaho-Roosevelt NF and Pawnee NG
| Curecanti NCA GMP | NPS, Curecanti NRA
| Glenwood Springs RMP | BLM, Glenwood Springs FO
| Grand Junction RMP | BLM, Grand Junction FO
| Grand Mesa-Uncompahgre-Gunnison NF LRMP | FS, Grand Mesa-Uncompahgre-Gunnison NF
| Gunnison RMP | BLM, Gunnison FO
| Kremmling RMP | BLM, Kremmling FO
| Little Snake RMP | BLM, Little Snake FO
| Routt NF LRMP | FS, Routt-Medicine Bow NF, Thunder Basin NG
| Royal Gorge RMP | BLM, Royal Gorge FO
| Pike-San Isabel NF LRMP | FS, Pike-San Isabel NF
| San Juan NF LRMP | FS, San Juan NF
| San Juan/San Miguel RMP | BLM, Dolores FO, Uncompahgre FO
| Uncompahgre Basin RMP | BLM, Uncompahgre FO
| White River RMP | BLM, White River FO
Idaho | Big Desert MFP | BLM, Upper Snake FO
| Bruneau MFP | BLM, Bruneau FO
| Caribou-Targhee NF LRMP | FS, Caribou-Targhee NF
| Cassia RMP | BLM, Burley FO
| Coeur d'Alene RMP | BLM, Coeur d'Alene FO
| Idaho Panhandle NF LRMP | FS, Idaho Panhandle NF
| Jarbidge RMP | BLM, Bruneau FO, Four Rivers FO, Jarbridge FO
| Kuna MFP | BLM, Four Rivers FO
| Medicine Lodge RMP | BLM, Upper Snake FO
| Monument RMP | BLM, Burley FO, Shoshone FO
| Pocatello RMP | BLM, Pocatello FO
| Owyhee RMP | BLM, Four Rivers FO, Owyhee FO
| Twin Falls MFP | BLM, Burley FO
Montana | Beaverhead-Deerlodge NF LRMP | FS, Beaverhead-Deerlodge NF
| Billings RMP | BLM, Billings FO
| Dillon RMP | BLM, Dillon FO
| Garnet RMP | BLM, Missoula FO
| Headwaters RMP | BLM, Butte FO
| Lolo NF LRMP | FS, Lolo NF
Nevada | Black Rock-High Rock Emigrant Trail NCA RMP | BLM, Winnemucca FO
| Carson City FO Consolidated RMP | BLM, Carson City FO
| Elko RMP | BLM, Elko FO
| Ely RMP | BLM, Ely FO
| Hawthorne Army Depot INRMP | DOD, U.S. Army, Hawthorne AD
| Humboldt NF LRMP | FS, Humboldt-Toiyabe NF
| Lake Mead NRA GMP | NPS, Lake Mead NRA
| Las Vegas RMP | BLM, Las Vegas FO
| Nellis AFB Plan 126-4 INRMP | DOD, U.S. Air Force, Nellis AFB
| Paradise-Denio MFP | BLM, Winnemucca FO
| Sonoma Gerlach MFP | BLM, Winnemucca FO
| Surprise RMP | BLM, Surprise FO
| Toiyabe NF LRMP | FS, Humboldt-Toiyabe NF
| Tonopah RMP | BLM, Battle Mountain FO
| Wells RMP | BLM, Elko FO
New Mexico | Carlsbad RMP | BLM, Carlsbad FO
| Farmington RMP | BLM, Farmington FO
| Mimbres RMP | BLM, Las Cruces DO
| Rio Puerco RMP | BLM, Rio Puerco FO
| Roswell RMP | BLM, Roswell FO
| Socorro RMP | BLM, Socorro FO
| White Sands RMP | BLM, Las Cruces DO
Oregon | Andrews-Steens RMP | BLM, Andrews FO
| Baker RMP | BLM, Baker FO
| Brothers-Lapine RMP | BLM, Central Oregon FO, Deschutes FO
| Deschutes NF LRMP | FS, Deschutes NF
| Eugene RMP | BLM, Upper Willamette FO
| Fremont NF LRMP | FS, Fremont-Winema NFs
| Klamath Falls RMP | BLM, Klamath Falls FO
| Lakeview RMP | BLM, Lakeview FO
| Medford RMP | BLM, Ashland FO, Butte Falls FO, Glendale FO
| Mt. Hood NF LRMP | FS, Mt. Hood NF
| Roseburg RMP | BLM, South River FO, Swiftwater FO, Upper Willamette FO
| Salem RMP | BLM, Cascades FO, Tillamook FO
| Southeastern Oregon RMP | BLM, Jordan FO, Malheur FO
| Three Rivers RMP | BLM, Three Rivers FO
| Two Rivers RMP | BLM, Deschutes FO
| Upper Deschutes RMP | BLM, Deschutes FO
| Winema NF LRMP | FS, Fremont-Winema NF
Utah | Cedar-Beaver-Garfield-Antimony RMP | BLM, Cedar City FO
| Dixie NF LRMP | FS, Dixie NF
| Fishlake NF LRMP | FS, Fishlake NF
| Grand Staircase-Escalante National Monument Management Plan | BLM, Grand Staircase-Escalante NM FO
| House Range RMP | BLM, Fillmore FO
| Kanab RMP | BLM, Kanab FO
| Moab RMP | BLM, Moab FO
| Pinyon MFP | BLM, Cedar City FO
| Pony Express RMP | BLM, Salt Lake FO
| Price RMP | BLM, Price FO
| Richfield RMP | BLM, Richfield FO
| St. George (Dixie) RMP | BLM, St. George FO
| San Juan RMP | BLM, Monticello FO
| Uinta NF LRMP | FS, Uinta-Wasatch-Cache NF
| Vernal RMP | BLM, Vernal FO
| Warm Springs RMP | BLM, Fillmore FO
| Wasatch-Cache NF LRMP | FS, Uinta-Wasatch-Cache NF
Washington | Mount Baker-Snoqualmie NF LRMP | FS, Mount Baker-Snoqualmie NF
| Spokane RMP | BLM, Wenatchee FO
| Wenatchee NF LRMP | FS, Wenatchee NF
Wyoming | Ashley NF LRMP | FS, Ashley NF
| Casper RMP | BLM, Casper FO
| Cody RMP | BLM, Cody FO
| Grass Creek RMP | BLM, Worland FO
| Great Divide RMP | BLM, Rawlins FO
| Green River RMP | BLM, Rock Springs FO
| Kemmerer RMP | BLM, Kemmerer FO
| Lander RMP | BLM, Lander FO.
| Medicine Bow NF LRMP | FS, Routt-Medicine Bow NF, Thunder Basin NG
| Washakie RMP | BLM, Worland FO
AFB = Air Force Base; BLM = Bureau of Land Management; CBGA = Cedar-Beaver-Garfield-Antimony; CCCP = Complex Comprehensive Conservation Plan; DO = district office; DOD = Department of Defense; FO = field office; FS = Forest Service; GMP = General Management Plan; INRMP = Integrated Natural Resources Management Plan; LMP = Land Management Plan; LRMP = Land and Resource Management Plan; MFP = Management Framework Plan; NCA = National Conservation Area; NF = National Forest; NM = National Monument; NG = National Grassland; NPS = National Park Service; NRA = National Recreation Area; RAMP= Recreation Area Management Plan; RFP= Revised Forest Plan, RMP = Resource Management Plan.
This list represents the most current plans. This list differs in some particulars from the list in the Draft PEIS, Vol. 2. Since planning is dynamic and there may also be further changes in the locations of specific corridors, the individual agency Records of Decision may also include changes in this list.

The Draft Programmatic Environmental Impact Statement for the Designation of Energy Corridors on Federal Land in the 11 Western States (Draft PEIS) was made available for public review and comment from November 16, 2007, to February 14, 2008. The Draft PEIS was posted on the project Web site at http://corridoreis.anl.gov, the DOE NEPA Web site at http://www.gc.energy.gov/nepa, and provided, on request, as a CD or printed document. Notice was provided to more than 2,200 individuals and organizations who registered on the project Web site to receive information about the PEIS. Approximately 14,000 individuals and organizations commented on the Draft PEIS, providing more than 3,500 substantive comments. About 57 percent of the comment documents were received via the project Web site, 21 percent were submitted by regular mail, and 22 percent were submitted at the public hearings, as oral statements, written submissions, or both.

Volume IV of the Final PEIS contains the public comments on the Draft PEIS and the agencies' responses. Public comments addressed a broad range of issues. Nearly 35 percent of the comments addressed various topics related to the alternatives presented in the PEIS, 20 percent commented on the purpose and need, and 17 percent commented on corridor location. Nearly 5 percent of the comments were concerned with ecological issues, approximately 4 percent raised concerns about multiple impact areas, 4 percent addressed cumulative impacts, and slightly more than 2 percent dealt with tribal issues.

The remaining comments were divided among a number of topics, each comprising less than 2 percent of the total. The topics (listed in decreasing order) include general impacts, land use, water resources, health and safety, cultural resources, maps, visual resources, socioeconomics, regulations, air quality, environmental justice, and noise.

Public and internal agency review comments on the Draft PEIS were incorporated into the Final PEIS. Public comments resulted in changes to the text and modifications to corridor segments. These changes have improved the analysis and clarified the discussion of important issues but did not significantly modify the Proposed Action or proposed land use plan amendments. The Final PEIS contains a number of modifications to corridor segments in response to public and agency comments. These changes are detailed in appendix K of the Final PEIS.

Government-to-government consultation regarding potential energy transport development and land use plan amendments on DOI-, USDA-, and DOD-administered lands was conducted with federally recognized Tribes whose interests might be directly and substantially affected. The Tribes contacted are listed in appendix C of the Final PEIS.

In addition, the Agencies have initiated activities to coordinate and consult with the governors of each of the 11 Western States addressed in the PEIS and with State agencies. Prior to the Agencies' issuance of their respective RODs, the governor of each state has the opportunity to identify any inconsistencies between the proposed land use plan amendments and State or local plans and to provide recommendations, in writing, during the 60-day consistency review period required by the BLM land use planning regulations (43 CFR 1610.3-2).

The DOI Assistant Secretary, Land and Minerals Management (AS/LM) is the responsible official for publishing the proposed plan amendments affecting public lands. The Federal Land Policy and Management Act of 1976 and its implementing regulations provide land use planning authority to the Secretary, which has been delegated to this Assistant Secretary. Because any decision regarding these plan amendments is being made by the AS/LM, it is the final decision for the DOI. This decision is not subject to administrative review (protest) under the BLM (DOI) land use planning regulations (43 CFR 1610.5-2).

The USDA Under Secretary of Natural Resources and Environment is the responsible official for publishing the proposed plan amendments on National Forest System lands. The Forest and Rangeland Renewable Resources Planning Act of 1974 as amended by the National Forest Management Act of 1976, and their implementing regulations provide land use planning authority to the Secretary, as delegated to this Under Secretary. Because any decision regarding these plan amendments is being made by the Under Secretary, Natural Resources and Environment, it is the final decision for the Department of Agriculture. This decision is not subject to administrative review (objection) under the FS or Departmental regulations (36 CFR 219.13(a)(2)).

Copies of the Final PEIS have been sent to the Environmental Protection Agency, DOI Office of Environmental Policy and Compliance, DOI Library, and the governors' offices in each of the 11 Western States covered by this PEIS. Copies of the Final PEIS are available at the BLM state offices and FS regional offices in the 11 Western States, DOE Headquarters Reading Room, the BLM Washington, DC, Public Affairs office and the FS Washington, DC, offices. Those interested may also review the Final PEIS and proposed land use plan amendments online at http://corridoreis.anl.gov.

Michael D. Nedd,
Assistant Director, Minerals and Realty Management, Bureau of Land Management, Department of the Interior.

[FR Doc. E8-28279 Filed 11-26-08; 8:45 am]

BILLING CODE 4310-84-P